DEPARTMENT OF COMMERCE

International Trade Administration

[A-570-601]

Tapered Roller Bearings and Parts Thereof, Finished and Unfinished, From the People's Republic of China: Final Results of Antidumping Duty Administrative Review, and Rescission of New Shipper Review; 2015-2016

AGENCY: Enforcement and Compliance, International Trade Administration, Department of Commerce.

SUMMARY: On June 29, 2017, the Department of Commerce (Commerce) published the preliminary results of the 29th administrative and new shipper reviews of the antidumping duty order on tapered roller bearings and parts thereof, finished and unfinished (TRBs), from the People's Republic of China (China). The period of review (POR) is June 1, 2015, through May 31, 2016. After analyzing the comments received, we have made changes to the final results of the administrative review. We are also rescinding the new shipper review (NSR). The final weighted-average dumping margins for the reviewed firms in the administrative review are listed below in the section entitled “Final Results of the Review.”

DATES: Applicable January 10, 2018.

FOR FURTHER INFORMATION CONTACT: Andrew Medley or Whitley Herndon, Enforcement and Compliance, International Trade Administration, U.S. Department of Commerce, 1401 Constitution Avenue NW, Washington, DC 20230; telephone: (202) 482-4987 or (202) 482-6274, respectively.

Background

These final results of administrative review cover three exporters of the subject merchandise, GSP Automotive Group Wenzhou Co. Ltd. (GSP), Hangzhou Yonggu Auto-Parts Co., Ltd. (Hangzhou Yonggu), and Zhejiang CTL Auto Parts Manufacturing Incorporated Co., Ltd. (CTL), as well as three additional companies, Zhejiang Zhaofeng Mechanical & Electronic Co., Ltd. (Zhaofeng), Yantai CMC Bearing Company Limited (Yantai CMC), and Zhejiang Zhengda Bearing Co., Ltd. (Zhengda), which do not qualify for separate rates. With respect to these later companies, we are treating them as part of the China-wide entity. The NSR covers Zhejiang Jingli Bearing Technology Co. Ltd. (Zhejiang Jingli).

On July 6, 2017, Commerce published the Preliminary Results.¹ In the Preliminary Results, we found that Zhejiang Jingli's sale to the United States was not bona fide, as required by section 751(a)(2)(B)(iv) of the Tariff Act of 1930, as amended (the Act). Therefore, we indicated that we intended to rescind the NSR.

¹ See Tapered Roller Bearings and Parts Thereof, Finished and Unfinished, from the People's Republic of China: Preliminary Results and Preliminary Rescission of New Shipper Review; 2015-2016, 82 FR 31301 (July 6, 2017) (Preliminary Results), and accompanying Preliminary Decision Memorandum.

In August 2017, we received case briefs from the petitioner, Zhaofeng, and Yantai CMC, and in September 2017, we received rebuttal briefs from the petitioner and Zhaofeng. In October 2017, Commerce extended the deadline for the final results by 60 days to January 2, 2018.² Commerce conducted this review in accordance with section 751 of the Act.

² See Memorandum, “Tapered Roller Bearings and Parts Thereof, Finished or Unfinished, from the People's Republic of China: Extension of Deadline for the Final Results of Antidumping Duty Administrative, and New Shipper Review,” dated October 16, 2017.

Scope of the Order ³

³ See Notice of Antidumping Duty Order; Tapered Roller Bearings and Parts Thereof, Finished or Unfinished, From the People's Republic of China, 52 FR 22667 (June 15, 1987) (Order).

The merchandise covered by the order includes tapered roller bearings and parts thereof. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.⁴

⁴ For a complete description of the scope of the order, see Memorandum, “Issues and Decision Memorandum for the Antidumping Duty Administrative Review and Rescission of New Shipper Review: Tapered Roller Bearings and Parts Thereof, Finished and Unfinished, from the People's Republic of China; 2015-2016,” dated concurrently with, and hereby adopted by, this notice (Issues and Decision Memorandum).

Separate Rates

In the Preliminary Results, we found that evidence provided by CTL, GSP, Hangzhou Yonggu, and Zhaofeng supported finding an absence of both de jure and de facto government control, and, therefore, we preliminarily granted a separate rate to each of these companies.⁵ We received no information since the issuance of the Preliminary Results that provides a basis for reconsidering these determinations with respect to CTL, GSP, and Hangzhou Yonggu. Therefore, for the final results, we continue to find that CTL, GSP, and Hangzhou Yonggu are eligible for separate rates.

⁵ See Preliminary Results, 82 FR at 31302-03 and Preliminary Decision Memorandum at 10-11.

With respect to Zhaofeng, however, based upon information obtained from Customs and Border Protection (CBP), we have determined that Zhaofeng's submitted information is unreliable in its entirety. Thus, we find that this information cannot serve as a basis for reaching a determination in this review. As a result, we find that Zhaofeng was unable to support its separate rates claim, and we find Zhaofeng to be a part of the China-wide entity. For further discussion, see Comment 1 of the accompanying Issues and Decision Memorandum.

Further, with respect to Yantai CMC and Zhengda, we determined in the Preliminary Results that these companies failed to demonstrate an absence of de facto government control, and, thus, Commerce did not grant Yantai CMC and Zhengda a separate rate. For these final results, we continue to find, based on record evidence, that Yantai CMC and Zhengda failed to demonstrate an absence of de facto government control. Accordingly, we are not granting Yantai CMC and Zhengda a separate rate. For further discussion of this issue with respect to Yantai CMC, see Comments 3 through 5 of the accompanying Issues and Decision Memorandum.

Weighted-Average Dumping Margin for the Non-Examined, Separate-Rate Companies

For these final results, we have not calculated any individual rates or assigned a rate based on facts available. Therefore, consistent with our recent practice,⁶ we determine to assign to the non-individually examined separate rate companies the rate assigned to the separate rate companies in the most recently-completed administrative review of the order, which is zero.⁷

⁶ See, e.g., Certain Frozen Warmwater Shrimp from the Socialist Republic of Vietnam: Preliminary Results of Antidumping Duty Administrative Review; 2015-2016, 81 FR 62717 (September 12, 2016), and accompanying Preliminary Decision Memorandum at 10-11, unchanged in Certain Frozen Warmwater Shrimp from the Socialist Republic of Vietnam: Final Results of Antidumping Duty Administrative Review; 2015-2016, 82 FR 11431 (February 23, 2017).

⁷ See, Tapered Roller Bearings and Parts Thereof, Finished and Unfinished, From the People's Republic of China: Final Results of Antidumping Duty Administrative Review, and Rescission of New Shipper Review; 2014-2015, 82 FR 4844 (January 17, 2017).

Analysis of Comments Received

All issues raised in the case and rebuttal briefs by parties to this administrative review are addressed in the Issues and Decision Memorandum. A list of the issues which parties raised and to which we respond in the Issues and Decision Memo is attached to this notice as an Appendix. The Issues and Decision Memorandum is a public document and is on file electronically via Enforcement and Compliance's Antidumping and Countervailing Duty Centralized Electronic Service System (ACCESS). ACCESS is available to registered users at https://access.trade.gov, and it is available to all parties in the Central Records Unit, Room B8024 of the main Department of Commerce building. In addition, a complete version of the Issues and Decision Memorandum can be accessed directly at http://trade.gov/enforcement. The signed Issues and Decision Memorandum and the electronic version of the Issues and Decision Memorandum are identical in content.

Changes Since the Preliminary Results

Based on our analysis of the comments received, we have determined that Zhaofeng is not eligible for a separate rate.

Rescission of New Shipper Review

No party commented on the new shipper review for these final results. As explained in the Preliminary Results, Commerce finds that Zhejiang Jingli's sale is non-bona fide.⁸ Because the non-bona fide sale was the only reported sale of subject merchandise during the POR, and, thus, there are no reviewable transactions, Commerce is rescinding the NSR.

⁸ See Preliminary Results, 82 FR at 31302.

Period of Review

The POR is June 1, 2015, through May 31, 2016.

Final Results of the Administrative Review

Because Yantai CMC, Zhaofeng, and Zhengda did not demonstrate that they are entitled to a separate rate, Commerce finds Yantai CMC, Zhaofeng, and Zhengda to be part of the China-wide entity. No party requested a review of the China-wide entity. Therefore, we did not conduct a review of the China-wide entity and the entity's rate is not subject to change.⁹ The rate previously established for the China-wide entity is 92.84 percent.

⁹ See Antidumping Proceedings: Announcement of Change in Department Practice for Respondent Selection in Antidumping Duty Proceedings and Conditional Review of the Nonmarket Economy Entity (NME) in NME Antidumping Duty Proceedings, 78 FR 65963, 65970 (November 4, 2013).

Additionally, we are assigning the following weighted-average dumping margins to the firms listed below for the period June 1, 2015, through May 31, 2016:

Exporters | Weighted- average dumping margin (percent)
GSP Automotive Group Wenzhou Co. Ltd * | 0.00
Hangzhou Yonggu Auto-Parts Co., Ltd * | 0.00
Zhejiang CTL Auto Parts Manufacturing Incorporated Co., Ltd * | 0.00
* This company demonstrated eligibility for a separate rate in this administrative review.

Assessment Rates

Pursuant to section 751(a)(2)(C) of the Act, and 19 CFR 351.212(b)(1), Commerce has determined, and CBP shall assess, antidumping duties on all appropriate entries of subject merchandise, where applicable, in accordance with the final results of this review. Commerce intends to issue assessment instructions to CBP 15 days after the date of publication of these final results of review.

Pursuant to the Final Modification for Reviews,¹⁰ because the above-listed respondents' weighted-average dumping margins are zero, we will instruct CBP to liquidate the appropriate entries without regard to antidumping duties.¹¹

¹⁰ See Antidumping Proceedings: Calculation of the Weighted-Average Dumping Margin and Assessment Rate in Certain Antidumping Duty Proceedings; Final Modification, 77 FR 8101 (February 14, 2012) (Final Modification for Reviews).

¹¹ Id., 77 FR at 8102.

For Yantai CMC, Zhaofeng, and Zhengda, because Commerce determined that these companies did not qualify for a separate rate, we will instruct CBP to assess dumping duties on the companies' entries of subject merchandise at the rate of 92.84 percent.

For Zhejiang Jingli, because Commerce rescinded the NSR, we will instruct CBP to assess dumping duties on the company's entries of subject merchandise at the rate China-wide rate of 92.84 percent.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review (except, if the rate is de minimis, then a cash deposit rate of zero will be established for that company); (2) for previously investigated or reviewed China and non-China exporters not listed above that currently have a separate rate, the cash deposit rate will continue to be the exporter-specific rate published for the most recently completed segment of this proceeding where the exporter received that separate rate; (3) for all China exporters of subject merchandise that have not been found to be entitled to a separate rate, the cash deposit rate will be the rate for the China-wide entity, 92.84 percent; and (4) for all non-China exporters of subject merchandise which have not received their own separate rate, the cash deposit rate will be the rate applicable to the China exporter that supplied that non-China exporter.

These deposit requirements, when imposed, shall remain in effect until further notice.

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1) and 777(i)(1) of the Act.

Dated: January 2, 2018.
Christian Marsh,
Deputy Assistant Secretary for Enforcement and Compliance.

Appendix

List of Topics Discussed in the Issues and Decision Memorandum

1. Summary

2. Background

3. Scope of the Order

4. Discussion of the Issues

Comment 1: Zhaofeng's Unreported U.S. Sales

Comment 2: Other Issues for Zhaofeng

Comment 3: Rejection of Yantai CMC's Separate Rates Application

Comment 4: Legal Authority To Assign a China-Wide Rate

Comment 5: Whether the China-Wide Rate is Under Review

5. Conclusion

[FR Doc. 2018-00242 Filed 1-9-18; 8:45 am]

BILLING CODE 3510-DS-P